DEPARTMENT OF VETERANS AFFAIRS

[OMB Control No. 2900-0055]

Agency Information Collection Activity Under OMB Review Request for Determination of Loan Guaranty Eligibility: Unmarried Surviving Spouses

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0055.

FOR FURTHER INFORMATION CONTACT: Maribel Aponte, Office of Enterprise and Integration, Data Governance Analytics (008), 810 Vermont Ave. NW, Washington, DC 20006, (202) 266-4688 or email maribel.aponte@va.gov. Please refer to “OMB Control No. 2900-0055” in any correspondence.

SUPPLEMENTARY INFORMATION: Authority: Example: 44 U.S.C. 3501-21.

Title: Request for Determination of Loan Guaranty Eligibility—Unmarried Surviving Spouses.

OMB Control Number: 2900-0055.

Type of Review: Revision of a currently approved collection.

Abstract: VA Form 26-1817 is used by VA to determine an unmarried surviving spouse's eligibility for Loan Guaranty benefits, and the amount of entitlement available. Each completed form is normally accompanied by proof of the deceased Veteran's military service and is submitted by the applicant to the appropriate VA office. If eligible, VA will issue the applicant a Certificate of Eligibility (COE) to be used in applying for Loan Guaranty benefits.

This form is also used in restoration of entitlement cases. Generally, if an applicant has used all or part of their entitlement, it may be restored if (1) the property has been sold and the loan has been paid in full or (2) a qualified Veteran-transferee agrees to assume the balance on the loan and agrees to substitute their entitlement for the same amount of entitlement originally used by the applicant to get the loan. The buyer must also meet the occupancy and income and credit requirements of the law. Restoration is not automatic; an applicant must apply for it by completing VA Form 26-1817.

An agency may not conduct or sponsor, and a person is not required to respond to a collection of information unless it displays a currently valid OMB control number. The Federal Register Notice with a 60-day comment period soliciting comments on this collection of information was published at 87 FR 34761 on June 7, 2022, pages 34761.

Affected Public: Individuals or Households.

Estimated Annual Burden: 4,250.

Estimated Average Burden per Respondent: 15 minutes.

Frequency of Response: One time.

Estimated Number of Respondents: 8,500.

By direction of the Secretary.
Maribel Aponte,
VA PRA Clearance Officer, Office of Enterprise and Integration, Data Governance Analytics, Department of Veterans Affairs.

[FR Doc. 2022-17565 Filed 8-15-22; 8:45 am]

BILLING CODE 8320-01-P